DEPARTMENT OF THE INTERIOR

Bureau of Land Management

[LLNVS01000 L58530000.EU0000 241A; 10-08807; MO#4500012541; TAS: 14X5232]

Notice of Extension of Public Comment Period for Draft Supplemental Environmental Impact Statement for the Upper Las Vegas Wash Conservation Transfer Area, Las Vegas, NV

AGENCY: Bureau of Land Management, Interior.

ACTION: Notice of extension.

SUMMARY: The Bureau of Land Management (BLM) is extending the public comment period for the Draft Supplemental Environmental Impact Statement (SEIS) for the Upper Las Vegas Wash Conservation Transfer Area, Las Vegas, Nevada. A notice published in the Federal Register on January 22, 2010 (75 FR 3755) provided for a public comment period ending on March 22, 2010.

DATES: Several individuals and local governments have requested an extension of the comment period. The BLM has decided to act in accordance with these requests; therefore, comments on the Draft SEIS will now be accepted through May 21, 2010. Comments received or postmarked after May 21, 2010 will be considered to the extent practicable.

ADDRESSES: You may submit written comments by the following methods:

• Web Site: http://www.blm.gov/nv/st/en/fo/lvfo.html.

• E-mail: NV_SNDO_Planning@blm.gov.

• Fax: 702-515-5023.

• Mail: Bob Ross, Field Manager, BLM Las Vegas Field Office, 4701 North Torrey Pines Drive, Las Vegas, NV 89130-2301.

SUPPLEMENTARY INFORMATION: Before including your address, phone number, e-mail address, or other personal identifying information in your comment, you should be aware that your entire comment—including your personal information—may be made publicly available at any time. While you can ask us, in your comment, to withhold your personal identifying information from public review, we cannot guarantee that we will be able to do so.

FOR FURTHER INFORMATION CONTACT: For further information contact: Gayle Marrs-Smith, 702-515-5156, Gayle_Marrs-Smith@blm.gov.

Authority: 40 CFR 1506.6 and 1506.10.

Mary Jo Rugwell,
District Manager.

[FR Doc. 2010-6337 Filed 3-18-10; 4:15 pm]

BILLING CODE 4310-HC-P